DEPARTMENT OF TRANSPORTATION

Federal Aviation Administration

[Docket No. FAA-2020-0414]

Agency Information Collection Activities: Requests for Comments; Clearance of Renewed Approval of Information Collection: Recording of Aircraft Conveyances and Security Documents

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on April 23, 2020. The collection involves a lienholder returning an AC Form 8050-41, Notice of Recordation—Aircraft Security Conveyance with Part II—Release completed to the Civil Aviation Registry, Aircraft Registration Branch (Registry), to release a recorded lien. This information is necessary to show satisfaction of a recorded lien.

DATES: Written comments should be submitted by December 14, 2020.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW, Washington, DC 20503.

FOR FURTHER INFORMATION CONTACT: Bonnie Lefko by email at: Bonnie.Lefko@faa.gov; phone: 405-954-7461.

SUPPLEMENTARY INFORMATION:

Public Comments Invited: You are asked to comment on any aspect of this information collection, including (a) whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0043.

Title: Recording of Aircraft Conveyances and Security Documents.

Form Numbers: AC Form 8050-41, Notice of Recordation.

Type of Review: Renewal.

Background: The Federal Register Notice with a 60-day comment period soliciting comments on the following collection of information was published on April 23, 2020 (85 FR 22784). Statute provides for establishing and maintaining a system for the recording of security conveyances affecting title to, or interest in U.S. civil aircraft and qualified engines, propellers, and/or spare part locations, and for recording of releases relating to those conveyances. A lienholder submits a lien against aircraft and/or qualified engines, propellers, and/or spare part locations to the Registry for recording. The Registry records the lien and sends an AC Form 8050-41, Notice of Recordation—Aircraft Security Conveyance, to the lienholder. When the lien is ready for release, the lienholder completes Part II—Release at the bottom of the form and returns it to the Registry as official notification that the lien has been satisfied.

Respondents: Any aircraft, propeller, engine or spare parts location lienholder, who has received the Notice of Recordation from the Registry, and is releasing the subject lien.

Frequency: On occasion.

Estimated Average Burden per Response: 1 hour.

Estimated Total Annual Burden: During FY 2019 the FAA received 22,370 release notifications for a total time burden of 22,370 hours.

Issued in Oklahoma City, OK on November 5, 2020.
Bonnie Lefko,
Program Analyst, Civil Aviation Registry, Aircraft Registration Branch, AFB-711.

[FR Doc. 2020-24952 Filed 11-10-20; 8:45 am]

BILLING CODE 4910-13-P